DEPARTMENT OF STATE

[Public Notice: 6440]

60-Day Notice of Proposed Information Collection: DS 5507, Affidavit of Parentage, Physical Presence and Support, (New—OMB No. 1405-XXXX)

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: DS 5507, Affidavit of Parentage, Physical Presence and Support

• OMB Control Number: New—OMB No. 1405-XXXX

• Type of Request: New Collection

• Originating Office: Bureau of Consular Affairs, Overseas Citizens Services (CA/OCS)

• Form Number: DS-5507

• Respondents: United States Citizens

• Estimated Number of Respondents: 15,026

• Estimated Number of Responses: 15,026

• Average Hours per Response: 30 minutes

• Total Estimated Burden: 7,513 hours

• Frequency: On Occasion

• Obligation to Respond: Voluntary

DATES: The Department will accept comments from the public up to 60 days from November 26, 2008.

ADDRESSES: You may submit comments by any of the following methods:

• E-mail: ASKPRI@state.gov.

• Mail (paper, disk, or CD-ROM submissions): U.S. Department of State, CA/OCS/PRI, SA-29, 4th Floor, Washington, DC 20520.

• Fax: 202-736-9111.

• Hand Delivery or Courier: U.S. Department of State, CA/OCS/PRI, 2100 Pennsylvania Avenue, 4th Floor, Washington, DC 20037.

You must include the DS form number (if applicable), information collection title, and OMB control number in any correspondence.

FOR FURTHER INFORMATION CONTACT: Direct requests for additional information regarding the collection listed in this notice, including requests for copies of the proposed information collection and supporting documents, to Derek A. Rivers, Bureau of Consular Affairs, Overseas Citizens Services (CA/OCS/PRI), U.S. Department of State, SA-29, 4th Floor, Washington, DC 20520, who may be reached on (202) 736-9028 or ASKPRI@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The purpose of the information collection is to determine if U.S. citizen/national parent(s) possesses the requisite prior physical presence or residence in the United States prior to their child's birth to transmit U.S. citizenship (or U.S. non-citizen nationality) to the child; to establish parentage of the child, and to fulfill the requirements of 8 U.S.C. 1409(a) which requires a written statement of financial support to be provided by U.S. citizen fathers for children born out of wedlock.

Methodology: The information is collected in person, by fax, or via mail. The Bureau of Consular Affairs is currently exploring options to make this information collection available electronically.

Dated: November 17, 2008.
Mary Ellen Hickey,
Managing Director, Bureau of Consular Affairs, Department of State.

[FR Doc. E8-28195 Filed 11-25-08; 8:45 am]

BILLING CODE 4710-06-P